TENNESSEE VALLEY AUTHORITY

Notice of Consideration of Demand Response and Electric Vehicle Standards

AGENCY: Tennessee Valley Authority.

ACTION: Notice with request for comments.

SUMMARY: The Tennessee Valley Authority (TVA) is considering adopting for itself and the distributors of TVA power certain demand response and electric vehicle standards. The standards being considered are the Demand Response Practices (hereinafter “Demand Response”) and Electric Vehicle Charging Programs standards (hereinafter “Electric Vehicles”) listed in the Public Utility Regulatory Act of 1978, as amended by the Infrastructure Investment and Jobs Act. The standards will be considered on the basis of their effect on conservation of energy, efficient use of facilities and resources, equity among electric consumers, TVA's existing demand response and electric vehicle programs, and the objectives of the Tennessee Valley Authority Act. Comments are requested from the public on whether TVA should adopt these standards or any variations on them.

DATES: All comments on these standards must be received by March 31, 2023. Written comments may be mailed to:

ADDRESSES: Troy Eichenberger, Tennessee Valley Authority, 1101 Market Street, BR 5B-C, Chattanooga, TN 37402, (423) 751-6187 (Demand Response) or Andrew Frye, Tennessee Valley Authority, 1101 Market Street, BR 5A-C, Chattanooga, TN 37402, (423) 751-7060 (Electric Vehicles). Information about submitting comments electronically is available at https://www.tva.com/purpa.

FOR FURTHER INFORMATION CONTACT: Troy Eichenberger (Demand Response), (423) 751-6187, or Andrew Frye (Electric Vehicles), (423) 751-7060, Tennessee Valley Authority.

SUPPLEMENTARY INFORMATION: Written data, views, and comments on the standards or variations of the standards, as well as views for or against their adoption are requested from the public. All material relating to the standards must be received by 5 p.m. EST on March 31, 2023. Materials received by TVA before this designated time will be considered by TVA. Written statements of TVA staff concerning the standards will be made part of the official record at least 30 days before the date the record closes, at which time they will be made available to the public on request. In order to assist interested consumers in preparing written data, views, and comments for the record, TVA will operate a website (https://www.tva.com/purpa) on which interested parties can be informed about the standards set out in this notice, on which interested parties can obtain information about submitting comments and materials on the standards electronically, and on which TVA will make available background information regarding TVA's demand response and electric vehicle programs. Following the end of the public comment period, TVA staff will provide an update on its review of the Demand Response and Electric Vehicle standards to the Regional Energy Resource Council, an advisory committee established under the authority of the TVA in accordance with the provisions of the Federal Advisory Committee Act. Meetings of the council are open to the public and typically include a public listening session. The TVA staff presentation will include a summary of public and TVA staff comments. The official record will include comments and materials submitted electronically and written materials submitted within the time set forth above. The record will be used by the Board in making its determinations, in compliance with the Public Utility Regulatory Policies Act of 1978 (Authority: Sec. 111(d), Pub. L. 95-617, 92 Stat. 3117) as amended by the Infrastructure Investment and Jobs Act (Authority: Sec. 111(d), Pub. L. 117- 58, 135 Stat. 429) and the Board's obligations under the Tennessee Valley Authority Act. Individual copies of the record will be available to the public at the cost of reproduction. Copies will also be kept on file for public inspection at the following locations: Tennessee Valley Authority, 400 W Summit Hill Drive, WT 6C-K, Knoxville, TN 37902, and on the web at https://www.tva.com/purpa.

Standards: The standards about which a determination will be made are:

(1) Demand Response Practices.

(A) In general. Each electric utility shall promote the use of demand-response and demand flexibility practices by commercial, residential, and industrial consumers to reduce electricity consumption during periods of unusually high demand.

(B) Rate Recovery.

(i) In general. Each State regulatory authority shall consider establishing rate mechanisms allowing an electric utility with respect to which the State regulatory authority has ratemaking authority to timely recover the costs of promoting demand-response and demand flexibility practices in accordance with subparagraph (A).

(ii) Nonregulated Electric Utilities. A nonregulated electric utility may establish rate mechanisms for the timely recovery of the costs of promoting demand-response and demand flexibility practices in accordance with subparagraph (A).

(2) Electric Vehicle Charging Programs. Each State shall consider measures to promote greater electrification of the transportation sector, including the establishment of rates that

(A) promote affordable and equitable electric vehicle charging options for residential, commercial, and public electric vehicle charging infrastructure;

(B) improve the customer experience associated with electric vehicle charging, including by reducing charging times for light-, medium-, and heavy-duty vehicles;

(C) accelerate third-party investment in electric vehicle charging for light-, medium-, and heavy-duty vehicles; and

(D) appropriately recover the marginal costs of delivering electricity to electric vehicles and electric vehicle charging infrastructure. Authority: Sec. 111(d), Public Law 117-58, 135 Stat. 429.

David Fountain, Executive Vice President and General Counsel of the Tennessee Valley Authority, hereby delegates to the undersigned the authority to sign this notice on behalf of the Tennessee Valley Authority.

Dated: November 8, 2022.
Christopher C. Chandler,
Senior Counsel.

[FR Doc. 2022-24857 Filed 11-14-22; 8:45 am]

BILLING CODE 8120-01-P